DEPARTMENT OF VETERANS AFFAIRS

Increase in Maximum Tuition and Fee Amounts Payable Under the Post-9/11 GI Bill

AGENCY: Department of Veterans Affairs.

ACTION: Notice.

SUMMARY: The purpose of this notice is to inform the public of the increase in the Post-9/11 GI Bill maximum tuition and fee amounts payable and the increase in the amount used to determine an individual's entitlement charge for reimbursement of a licensing, certification, or national test for the 2016-2017 academic year (August 1, 2016-July 31, 2017).

FOR FURTHER INFORMATION CONTACT: Schnell Carraway, Management and Program Analyst, Education Service (225C), Veterans Benefits Administration, Department of Veterans Affairs, 810 Vermont Avenue NW., Washington, DC 20420, Telephone: (202) 461-9800. (This is not a toll-free number.)

SUPPLEMENTARY INFORMATION: For the 2015-2016 academic year (August 1, 2015-July 31, 2016), the Post-9/11 GI Bill allowed VA to pay the actual net cost of tuition and fees not to exceed the in-state amounts for students pursuing training at public schools: $21,084.89 for students training at private and foreign schools, $12,048.50 for students training at vocational flight schools, and $10,241.22 for students training at correspondence schools. Additionally, the entitlement charge for individuals receiving reimbursement of costs to take a licensing, certification, or national test was one month (rounded to the nearest whole month) for each $1,759.08 received.

Sections 3313, 3315, and 3315A of title 38, United States Code (U.S.C.), direct VA to increase the maximum tuition and fee payments and entitlement-charge amounts each academic year (begins August 1st) based on the most recent percentage increase determined under 38 U.S.C. 3015(h). The percentage increase determined under 38 U.S.C. 3015(h) is effective October 1st of each year. The most recent percentage increase determined under 38 U.S.C. 3015(h) was a 4.2-percent increase, which was effective October 1, 2015.

The maximum tuition and fee payments and entitlement-charge amounts for training pursued under the Post-9/11 GI Bill beginning after July 31, 2016, and before August 1, 2017, are listed below. VA's calculations for the 2016-2017 academic year are based on the 4.2-percent increase.

2016-2017 Academic Year
Type of school | Actual net cost of tuition and fees not to exceed
Post-9/11 GI Bill Maximum Tuition and Fee Amounts
Public | In-State/Resident Charges.
Private/Foreign | $21,970.46.
Vocational Flight | $12,554.54.
Correspondence | $10,671.35.
Post-9/11 Entitlement Charge Amount for Tests
Licensing and Certification Tests National Tests | VA will charge one month entitlement (rounded to the nearest whole, non-zero, month) for each $1,832.96 received.

Signing Authority

The Secretary of Veterans Affairs, or designee, approved this document and authorized the undersigned to sign and submit the document to the Office of the Federal Register for publication electronically as an official document of the Department of Veterans Affairs. Robert D. Snyder, Chief of Staff, Department of Veterans Affairs, approved this document on April 11, 2016, for publication.

Dated: May 3, 2016.
Michael Shores,
Chief Impact Analyst, Office of Regulation Policy & Management, Office of the General Counsel, Department of Veterans Affairs.

[FR Doc. 2016-10744 Filed 5-6-16; 8:45 am]

BILLING CODE 8320-01-P